FEDERAL COMMUNICATIONS COMMISSION

Public Information Collections Approved by Office of Management and Budget

September 18, 2007.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Thomas Butler, Federal Communications Commission, (202) 418-1492 or via the Internet at Thomas.butler@fcc.gov.

SUPPLEMENTARY INFORMATION: OMB Control No.: 3060-0853.

OMB Approval Date: 8/10/2007.

Expiration Date: 04/30/2010.

Title: Compliance with the Children's Internet Protection Act; Receipt of Service Confirmation Form; and Funding Commitment (FRN) Change Request Form.

Form No.: 486, 479, 500.

Estimated Annual Burden: 35 responses; 1,655 total annual hours; 3-65 hours per respondent.

Needs and Uses: This collection was approved as a revision to a currently approved collection by OMB. The Commission eliminated the FCC Form 486-T which was a temporary form to be used in Funding Year 2003. That date has sunset and the form has been eliminated. The Commission also updated the Privacy Act and PRA *343 burden statement notices contained on each form. Finally, the FCC Form 486 has been modified to include a new certification that certain steps have been taken prior to the commencement of service (see the Fifth Report and Order, CC Docket No. 02-6, FCC 04-190). The FCC Forms 479 and 500 remain unchanged since the last submission to the OMB. The purpose of this information collection is to ensure that schools and libraries that are eligible to receive discounted Internet access and internal connections have in place certain Internet safety policies. Libraries receiving Internet access and internal connection services supported by the schools and libraries support mechanism must certify, by completing the FCC Form 486 (Receipt of Service Confirmation Form), the respondents are indicating they are enforcing a policy of Internet safety and enforcing the operation of a technology prevention measure. Respondents who received a Funding Commitment Decision Letter indicating services eligible for universal service discounts must file FCC Form 486 in order to start the payment process. In addition, all members of a consortium must submit signed certifications to the Billed Entity (using a FCC Form 479, Certification by Administrative Authority to Billed Entity of Compliance with Children's Internet Protection Act (CIPA)) of each consortium, in language consistent with that adopted on the FCC Form 486. FCC Form 500 is used in conjunction with the FCC Form 486 to adjust funding commitments and/or modify the dates for receipt of Service.

OMB Control No.: 3060-0355.

OMB Approval Date: 7/27/2007.

Expiration Date: 07/31/2010.

Title: Rate-of-Return Reports.

Form No.: 492, 492A.

Estimated Annual Burden: 111 responses; 888 total annual hours; 8 hours per response.

Needs and uses: This collection was approved as an extension to an existing collection with adjustments to the number of respondents and burden hours to reflect the most current information available. FCC Form 492 is filed by each local exchange carrier (LEC) or group of carriers who file individual access tariffs or who are not subject to sections 61.41 through 61.49 of the Commission's rules. Each LEC, or group of affiliated carriers subject to the previously stated sections file FCC Form 492A. Both forms are filed annually. The reports contain rate-of-return information and are needed to enable the Commission to fulfill its regulatory responsibilities.

OMB Control No.: 3060-1062.

OMB Approval Date: 7/27/2007.

Expiration Date: 07/31/2010.

Title: Schools and Libraries Universal Service Support Mechanism—Notification of Equipment Transfers.

Form No.: N/A.

Estimated Annual Burden: 100 responses; 100 total annual hours; 1 hour per response.

Needs and uses: This collection was approved as an extension to an existing collection with adjustments to the number of burden hours to reflect the most current information available. In the event that a participant of the schools and libraries universal service mechanism (also known as the e-rate program) is permanently or temporarily closed and equipment is transferred, the transferring entity must notify the Administrator of the transfer. Both the transferring and receiving entities must maintain detailed records documenting the transfer and the reason for the transfer for a period of five years.

OMB Control No.: 3060-0855.

OMB Approval Date: 9/11/2007.

Expiration Date: 09/30/2010.

Title: Telecommunications Reporting Worksheets and Related Collections.

Form No.: 499-A, 499-Q.

Estimated Annual Burden: 36,068 responses; 273,129 total annual burden, 15-25 hours per response.

Needs and uses: This collection was approved as a revision to a currently approved collection by OMB. The Federal Communications Commission (Commission) requires telecommunications carriers and other providers of telecommunications to contribute to the Universal Service Fund (USF) and other funds. Contribution revenue data, as well as other information, are reported by carriers and other providers of telecommunications on FCC Forms 499-A and 499-Q. Accompanying these forms are instructions on how to report revenue. This revision is necessary to incorporate the changes required by the Vonage Holdings Corp. Decision and TRS Contribution Order and will go into effect with the November 1, 2007 quarterly filing of FCC Form 499-Q.

Federal Communications Commission.
Marlene H. Dortch,
Secretary.

[FR Doc. E7-18779 Filed 9-21-07; 8:45 am]

BILLING CODE 6712-01-P